DEPARTMENT OF HEALTH AND HUMAN SERVICES

Administration for Children and Families

Statement of Organization, Functions and Delegation of Authority

Notice is hereby given that I have delegated to the Director, Office of Family Assistance, the following authority vested in me by the Secretary of Health and Human Services in the memorandums dated August 20, 1991, Delegations of Authority for Social Security Act Programs and September 16, 1997, Delegations of Authority for the Personal Responsibility and Work Opportunity Reconciliation Act of 1996 (Pub. L. 104-193).

(a) Authority Delegated.

Authority under section 116 of the Personal Responsibility and Work Opportunity Reconciliation Act of 1996 to take action related to the reimbursement of the federal share of overpayments that were recovered from former recipients of the Aid to Families with Dependent Children (AFDC) program.

(b) Limitations.

1. This delegation of authority shall be exercised under the Department's existing policies on delegations and regulations.

2. This delegation of authority excludes the authority to hold hearings.

3. Any redelegation shall be in writing and prompt notification must be provided to all affected managers, supervisors, and other personnel, and requires the concurrence of the Deputy Assistant Secretary for Administration.

(c) Effect on Existing Delegations.

As related to the authorities delegated herein, this delegation of authority supersedes all previous delegations relating to the AFDC program delegated to OFA.

I hereby affirm and ratify any actions taken by the Director, Office of Family Assistance, which involved the exercise of the authorities delegated herein prior to the effective date of this delegation.

(d) Effective Date.

This delegation of authority is effective upon the date of signature.

Date signed: February 5, 2009.
Daniel C. Schneider,
Acting Assistant Secretary for Children and Families.

[FR Doc. E9-3458 Filed 2-17-09; 8:45 am]

BILLING CODE 4184-01-P